INTERNATIONAL TRADE COMMISSION

[Investigation No. 731-TA-377 (Review)]

Internal Combustion Industrial Forklift Trucks From Japan

AGENCY: United States International Trade Commission.

ACTION: Revision of the schedule of a full five-year review concerning the antidumping duty order on internal combustion industrial forklift trucks from Japan.

EFFECTIVE DATE: March 7, 2000.

FOR FURTHER INFORMATION CONTACT: Christopher J. Cassise (202-708-5408), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION:

Background

On August 27, 1999 (64 FR 46952), the Commission published a notice in the Federal Register scheduling a full five-year review concerning the antidumping duty order on internal combustion industrial forklift trucks from Japan. On February 4, 2000 (65 FR 5660), the Commission published a notice in the Federal Register revising this schedule. This revised schedule provided for the Commission to make its final release of information on March 9, 2000, and the parties' final comments were due on March 13, 2000. In order to accommodate the late submission of questionnaire data obtained from a domestic producer pursuant to a stipulated order regarding an administrative subpoena issued by the Commission on January 4, 2000, the February 4, 2000, schedule is further revised.

The Commission's new schedule for the review is as follows: The Commission will not collect any additional information after March 10, 2000, and will make its final release of information to the parties on or about March 10, 2000; and final party comments are due on March 15, 2000.

For further information concerning the review, see the Commission's notices cited above and the Commission's Rules of Practice and Procedure, part 201, subparts A through E (19 CFR part 201), and part 207, subparts A and F (19 CFR part 207).

Authority: This review is being conducted under authority of title VII of the Tariff Act of 1930; this notice is published pursuant to sections 201.35 and 207.62 of the Commission's rules.

By order of the Commission.
Issued: March 7, 2000.
Donna R. Koehnke,
Secretary.

[FR Doc. 00-6083 Filed 3-10-00; 8:45 am]

BILLING CODE 7020-02-P